RAILROAD RETIREMENT BOARD

Appointment to the Senior Executive Service Performance Review Board

AGENCY: Railroad Retirement Board.

ACTION: Notice.

SUMMARY: The Railroad Retirement Board (Board) is announcing the membership on its Senior Executive Service Performance Review Board.

DATES: These appointments are effective on the date of publication of this notice.

FOR FURTHER INFORMATION CONTACT: Ana Kocur, General Counsel, Railroad Retirement Board, 844 North Rush Street, Chicago, IL 60611-1275, (312) 751-4948.

SUPPLEMENTARY INFORMATION: Under title 5, chapter 43, subchapter II, section 4314(c)(4) of the United States Code as added by section 405(a) of the Civil Service Reform Act of 1978, Public Law 95-454 (5 U.S.C. 4314(c)(4)), the Board must publish in the Federal Register a list of persons who may be named to serve on the Performance Review Board that oversees the evaluation of performance appraisals for Senior Executive Service members of the Railroad Retirement Board. The members of the Performance Review Board are:

Shawna Weekley

Arturo Cardenas

Keith Sartain

Dated: November 9, 2022.
By Authority of the Board.
Stephanie Hillyard,
Secretary to the Board.

[FR Doc. 2022-24808 Filed 11-14-22; 8:45 am]

BILLING CODE 7905-01-P